DEPARTMENT OF AGRICULTURE

Animal and Plant Health Inspection Service

7 CFR Part 301

[Docket No. 01-079-3]

Citrus Canker Quarantined Areas; Technical Amendment

AGENCY: Animal and Plant Health Inspection Service, USDA.

ACTION: Final rule; technical amendment.

SUMMARY: In a final rule effective February 25, 2002, and published in the Federal Register on March 1, 2002, we amended the citrus canker regulations by removing a portion of Manatee County, FL, from the list of quarantined areas. We removed a portion of Manatee County, FL, from the list of quarantined areas that should not have been removed. Therefore, we are amending the citrus canker regulations so that they accurately reflect the boundaries of the quarantined areas in Manatee County, FL.

EFFECTIVE DATE: February 25, 2002.

FOR FURTHER INFORMATION CONTACT: Mr. Stephen Poe, Operations Officer, PPQ, APHIS, 4700 River Road Unit 134, Riverdale, MD 20737; (301) 734-8899.

SUPPLEMENTARY INFORMATION:

Background

In a final rule effective February 25, 2002, and published in the Federal Register on March 1, 2002 (67 FR 9389-9390, Docket No. 01-079-2), we amended the citrus canker regulations in 7 CFR 301.75-4(a) by removing a portion of Manatee County, FL, from the list of quarantined areas. As described in the final rule and in the proposed rule that preceded it (66 FR 59175-59176, Docket No. 01-079-1, published November 27, 2001), we intended to remove a 15-square-mile area in the northern part of the quarantined area in Manatee County, FL, that had been free of citrus canker since February 1999 and had thus met the requirement for a declaration of eradication, as set forth in § 301.75-4(c) of the regulations.

In § 301.75-4(a), the description of the quarantined area in Manatee County, FL, is divided into two paragraphs. In order to remove the 15-square-mile area described in the proposed and final rules, we should have revised the first of those two paragraphs. However, due to a miscommunication, we revised the second paragraph instead and inadvertently removed the description of a 41-square-mile area in the eastern part of the county.

Therefore, in this document, we are correcting that error by revising the first paragraph of the entry for Manatee County, FL, in § 301.75-4(a) to reflect the removal of the 15-square-mile area in the northern part of the county, and we are restoring the description of the 41-square-mile area in the eastern part of the county. This action ensures that the citrus canker regulations will accurately reflect the boundaries of the quarantined areas in Manatee County, FL.

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. In § 301.75-4, paragraph (a), the entry for Manatee County is revised to read as follows:

§ 301.75-4 Quarantined areas.

(a) * * *

Florida

* * * * *

Manatee County. That portion of the county bounded by a line drawn as follows:

Beginning at the northwest corner of sec. 24, T. 33 S., R. 17 E.; then east along the northern boundary of sec. 24, T. 33. S., R. 17 E. (Bishop Harbor Road) until it becomes SR 683 (Moccasin Wallow Road); then east on SR 683 to the northeast boundary of sec. 22, T. 33 S., R. 18 E., then south along the eastern boundary of sec. 22, T. 33 S., R. 18 E. to 69th Street East; then east on 69th Street East to Erie Road; then south on Erie Road to U.S. Highway 301; then south on U.S. Highway 301 to Interstate 75; then south on Interstate 75 to the southern boundary of sec. 24, T. 35 S., R. 18 E.; then west along the southern boundaries of secs. 24, 23, and 22 to where the southern boundary of sec. 22 meets Whitfield Avenue; then west on Whitfield Avenue to U.S. Highway 301; then north on U.S. Highway 301 to SR 70; then west on SR 70 to U.S. Highway 41; then north on U.S. Highway 41 to where it becomes 14th Street West; then north on 14th Street West to 1st Avenue West; then east on 1st Avenue West to 9th Street West; then north on 9th Street West to the north bank of the Manatee River; then west along the north bank of the Manatee River to Terra Ceia Bay; then north along the western boundaries of secs. 25 and 24 to the point of the beginning.

That portion of the county bounded by a line drawn as follows: Beginning at the northwest corner of sec. 8, 9, 10, 11, and 12, T. 33 S., R. 21 E.; then east along sec. 8, 9, 10, 11, and 12, T. 33 S., R. 21 E., to sec. 12, T. 33 S., R. 21 E.; then south along sec. 12, T. 33 S., R. 21 E., to sec. 18, 19, 30, and 31, T. 33 S., R. 22 E.; then east along sec. 18, 19, 30, and 31, T. 33 S., R. 22 E., to sec. 6, T. 34 S., R. 22 E.; then south along sec. 6, T. 34 S., R. 22 E., to sec. 7, T. 34 S., R. 22 E.; then west along sec. 7, T. 34 S., R. 22 E., to sec. 12, 11, 10, and 9, T. 34 S., R. 21 E.; then south along sec. 12, 11, 10, and 9, T. 34 S., R. 21 E., to sec. 8 and 5, T. 34 S., R. 21 E.; then north along sec. 8 and 5, T. 34 S., R. 21 E., to sec. 31, 29, 20, 17, and 8, T. 33 S., R. 21 E.; then north along sec. 31, 29, 20, 17, and 8, T. 33 S., R. 12 E., to the point of beginning.

* * * * *

Done in Washington, DC, this 10th day of April 2002.
Bobby R. Acord,
Administrator, Animal and Plant Health Inspection Service.

[FR Doc. 02-9208 Filed 4-15-02; 8:45 am]

BILLING CODE 3410-34-U